DEPARTMENT OF HEALTH AND HUMAN SERVICES

Centers for Disease Control and Prevention

Strengthening Existing National Organizations Serving Racial and Ethnic Populations Capacity Development Programs: Strategies To Advance Program Implementation, Coordination, Management, and Evaluation Efforts

Announcement Type: New.

Funding Opportunity Number: RFA 05055.

Catalog of Federal Domestic Assistance Number: 93.283.

Key Dates: Application Deadline: August 19, 2005.

I. Funding Opportunity Description

Authority: This program is authorized under sections 317(k)(2)) of the Public Health Service Act, [42 U.S.C. section 241b(k)(2))], as amended.

Purpose: The Centers for Disease Control and Prevention (CDC) announces the availability of fiscal year (FY) 2005 funds to support and strengthen existing National and Regional Minority Organizations (NMOs/RMOs) that engage in health advocacy, promotion, education and preventive health care with the intent of improving the health and well-being of racial and ethnic minority populations. National and Regional Minority Organizations (NMOs/RMOs) serving racial and ethnic populations are those with a proven track record of providing direct or indirect service to minority and high-risk populations through a community-based approach and proven delivery system channels. They support national and/or regional initiatives to develop, expand, and enhance health promotion, educational, and community-based programs targeting racial and ethnic populations.

Note: For the purpose of this program announcement, racial and ethnic minority populations are African-American, American Indian and Alaska Native, Asian-American, Hispanic or Latino, and Native Hawaiian and Other Pacific Islander.

If the applicant is an NMO, it must serve at least four (4) HHS regions either independently or as the lead agency within a coalition or collaboration. If the applicant is an RMO, it must serve at least two (2) HHS regions either independently or as the lead agency within a coalition or collaboration.

Specifically, the program is intended to assist existing NMOs and/or RMOs in:

• Expanding and enhancing culturally and linguistically appropriate health educational and community-based programs targeting racial and ethnic minorities, thereby contributing to the goal of eliminating health disparities within the racial and ethnic minority population.

• Promoting and advancing policy analysis efforts, program assessment and program development activities, formative evaluation, training and technical assistance programs, and project management.

• Strengthening coalition building and collaboration and leadership that improve the health status and access to programs for racial and ethnic minority populations.

• Providing innovative capacity-building assistance to support and strengthen minority community-based organizations in management, fiscal management, and program operations.

This program addresses the “Healthy People 2010” focus areas of Educational and Community-Based Programs and Health Communication targeting a variety of public health issues affecting the racial and ethnic minority populations.

Directions and guidance for the implementation and execution of this program will be facilitated by the Office of Minority Health (OMH), Office of the Director, CDC. OMH provides leadership, coordination, assessment, and evaluation for minority health initiatives, as well as policy initiatives targeting improving the health of ethnic populations. The office also supports cooperative agreements with academic institutions and national non-governmental organizations to conduct prevention research, program development, and analysis and evaluation to improve the health status of racial, ethnic, and minority populations and reduce health disparities.

Measurable outcomes of this program will be in alignment with one (or more) of the following performance goal(s) for the Office of Minority Health:

• Goal 1: Support racial and ethnic minority institutions, including tribal colleges and universities, by increasing the number of funding mechanisms and the number of racial and ethnic minority-serving institutions receiving support.

• Goal 2: Foster innovative approaches and building of stronger public health capacity within organizations serving racial and ethnic communities to address identified health risks and disease burdens of these underserved populations.

• Goal 3: Promote health and quality of life by reducing the disproportionate burden of preventable disease, death and injury among racial and ethnic minorities.

This announcement is only for non-research activities supported by CDC/ATSDR. If research is proposed, the application will not be reviewed. For the definition of research, please see the CDC Web site at the following Internet address: http://www.cdc.gov/od/ads/opspoll1.htm.

Activities

Awardee activities for this program should focus on health education, promotion, and marketing strategies to describe a comprehensive approach to address associated risk factors and diseases that result in the most efficient and cost effective strategies to achieve the proposed activities. Activities shall include, but are not limited to the following:

a. Strengthening existing collaborations with public health professionals serving minority communities with the expressed purpose of delivering culturally-proficient and linguistically-appropriate public health services to racial and ethnic minority populations by developing, promoting, and marketing health promotion and professional training and educational programs and materials.

b. Policy analysis, program assessment and development, formative evaluation, training and technical assistance efforts to improve the health and well-being of the targeted racial and ethnic populations.

c. Participating in CDC-sponsored meetings and events, as appropriate.

d. Developing partnerships with organizations to implement new ways to support providers and professionals with effective methods for serving racial and ethnic minority communities.

e. Working with academic institutions and public and private health partners on health promotion, education, social marketing and program service delivery endeavors to reduce health disparities in racial and ethnic minority communities.

f. Applicants working with public health partners must develop, coordinate and conduct technical assistance and/or training activities to increase cultural competency of public health professionals and partners.

g. Incorporating population-based approaches to disease prevention and health promotion programs that focus on strengthening organizational capacity and information technology assets for community-based organizations.

In a cooperative agreement, CDC staff is substantially involved in the program activities.

CDC Activities for this program are as follows:

a. Partnering with recipient in the development, implementation, evaluation, and dissemination of educational programs and material designed to improve knowledge and attitudes to prevent and control various preventable diseases and injuries within racial and ethnic minority communities.

b. Providing periodic updates about public knowledge, attitudes, and practices regarding disease and injury prevention and control, including up-to-date scientific information.

c. Partnering with recipient to identify appropriate and specific venues to share and disseminate information.

d. Identifying liaisons with other organizations that are interested in disease and injury education and health promotion in local racial and ethnic minority communities.

II. Award Information

Type of Award: Cooperative Agreement.

CDC involvement in this program is listed in the Activities Section above.

Fiscal Year Funds: 2005.

Approximate Total Funding: $1,300,000.

Approximate Number of Awards: Up to five.

• Approximately 1-2 awards will be made to organizations serving each racial and ethnic population.

Consideration will be given to NMOs/RMOs which demonstrate a clear need or demand for capacity building assistance; have appropriate staff expertise and other sources of support and/or realistic projections; build on existing programs or services; and involve the target audience in the planning, implementation and design of program activities (e.g, coalition development, focus groups, trainings).

Approximate Average Award Range: $200,000-500,000. This amount is for the first 12-month budget period, and includes both direct and indirect costs.

Anticipated Award Date: August 31, 2005.

Budget Period Length: 12 months.

Project Period Length: Four years.

Throughout the project period, CDC's commitment to continuation of awards will be conditioned on the availability of funds, evidence of satisfactory progress by the recipient (as documented in required reports), and the determination that continued funding is in the best interest of the Federal Government.

III. Eligibility Information

III.1. Eligible Applicants

Eligible applicants are national organizations (NOs), including national minority organizations (NMOs) and regional minority organizations (RMOs). National and Regional Minority Organizations (NMOs/RMOs) serving racial and ethnic populations are those with a proven track record of five (5) or more years of providing direct or indirect service to minority and high-risk populations through a community-based approach and proven delivery system channels. [Note: For the purpose of this program announcement, racial and ethnic minority populations are African-American, American Indian and Alaska Native, Asian-American, Hispanic or Latino, and Native Hawaiian and Other Pacific Islander.]

If the applicant is an NMO, it must serve at least four (4) HHS regions either independently or as the lead agency within a coalition or collaboration. If the applicant is an RMO, it must serve tribes/communities in at least two HHS regions either independently or serve as the lead agency within a coalition or collaboration. A coalition or collaboration may consist of any combination of four (4) or more national, regional or local minority organizations. The applicant, or lead agency, must be the legal applicant and all applicants must provide documentation proving that they meet the following criteria:

a. Be an established national (defined by charter or bylaws to operate nationally), nonprofit organization (a non-governmental, nonprofit corporation or association whose net earnings in no part accrue to the benefit of private shareholders or individuals). Bylaws and/or charter must be furnished with the application.

Note: A copy of a currently valid Internal Revenue Service (IRS) tax exemption certificate is acceptable evidence of nonprofit status.

b. Demonstrate at least a 5-year record of service to community-based organizations serving the targeted ethnic and racial minority community/population. Acceptable documentation includes letters of support, agency annual reports, client satisfaction survey summaries, and memoranda of agreement.

c. Demonstrate a primary relationship to the proposed target population. A primary relationship is one in which there is a documented history of assisting, serving, or representing the priority population as the most important component of the organizations' mission.

d. Provide evidence of collaborative relationships with at least five other organizations (i.e. coalitions, memorandums of understanding (MOUs), memorandums of agreement (MOAs), government to government relations, and federal trust). Please include a current list of participating chapters, offices, affiliates, or organizations who are receiving funds under this application.

Additionally, eligible applicants must be able to demonstrate at least a five-year history in conducting at least three (3) of the following activities:

a. Providing community-based solutions that improve the health and well-being of a specific racial/ethnic minority group in the United States.

b. Developing and implementing effective strategies for the delivery of community health promotion and disease prevention programs and messages that address the priority health needs identified by their community using a variety of culturally and linguistically competent community-based approaches.

c. Providing capacity-building assistance to community-based organizations, health departments and other partners in providing health promotion and prevention education targeting racial/ethnic minority populations.

d. Policy analysis, program assessment and development, formative evaluation, training and technical assistance programs.

e. Developing program strategies to provide a better understanding of the health care access barriers facing racial/ethnic minority communities.

f. Working in partnership with the state and local and or tribal program planning bodies.

III.2. Cost Sharing or Matching

Matching funds are not required for this program.

III.3. Other

If you request a funding amount greater than $500,000, your application will be considered non-responsive, and will not be entered into the review process. You will be notified that your application did not meet the submission requirements.

Special Requirements: If your application is incomplete or non-responsive to the requirements listed in this section, it will not be entered into the review process. You will be notified that your application did not meet the submission requirements.

• Late applications will be considered non-responsive. See section “IV.3. Submission Dates and Times” for more information on deadlines.

• The applicant should provide a concise summary that clearly describes: (a) Their status as a national or regional organization with experience and capacity for conducting disease prevention and health promotion programs targeting racial and ethnic minority communities and at-risk populations; (b) demonstrated outcome/accomplishments from previous national/regional disease prevention and health promotion efforts targeting racial and ethnic minority communities and at-risk populations; and, (c) demonstrated experience and capacity coordinating and implementing public health programs within the targeted population.

• Each applicant may submit no more than one proposal under this announcement. If an organization submits more than one proposal, all proposals will be deemed ineligible and returned without comment.

• Note: Title 2 of the United States Code section 1611 states that an organization described in Section 501(c)(4) of the Internal Revenue Code that engages in lobbying activities is not eligible to receive Federal funds constituting an award, grant or loan.

IV. Application and Submission Information

IV.1. Address To Request Application Package

To apply for this funding opportunity use application form PHS 5161-1.

Electronic Submission: CDC strongly encourages the applicant to submit the application electronically by utilizing the forms and instructions posted for this announcement on http://www.Grants.gov, the official Federal agency wide E-grant Web site. Only applicants who apply on-line are permitted to forego paper copy submission of all application forms.

Paper Submission: Application forms and instructions are available on the CDC Web site, at the following Internet address: http://www.cdc.gov/od/pgo/forminfo.htm.

If access to the Internet is not available, or if there is difficulty accessing the forms on-line, contact the CDC Procurement and Grants Office Technical Information Management Section (PGO-TIM) staff at 770-488-2700 and the application forms can be mailed.

IV.2. Content and Form of Submission

Application: A project narrative must be submitted with the application forms. The narrative must be submitted in the following format:

• Maximum number of pages: 30 pages—If your narrative exceeds the page limit, only the first pages, which are within the page limit, will be reviewed.

• Font size: 12 point unreduced.

• Double-spaced.

• Paper size: 8.5 by 11 inches.

• Page margin size: One inch.

• Printed only on one side of page, double spaced.

• Held together only by rubber bands or metal clips, not bound in any other way.

The narrative should address activities to be conducted over the entire project period with a comprehensive approach, and must include the following items in the order listed.

1. Executive Summary

Describe your organization's prior experience implementing and coordinating a national/regional public health program targeting racial and ethnic minority communities to address risk factors and disease prevention. Describe your organization's capacity and ability to conduct national/regional programs and activities related to promoting health through education and social marketing strategies; and information dissemination in collaboration with and through racial and ethnic minority coalitions, community organizations, and public health partners. Describe your organization's previous experience and accomplishments in implementing and conducting a national/regional education, health promotion and prevention program with the targeted population.

2. Background and Need

Document the need for the proposed activities and the context in which the work will be conducted. Describe the targeted population and your organization's role in conducting these activities.

3. Method

Submit a plan that describes the methodologies for a comprehensive approach to conduct recipient activities as outlined below:

a. Strengthening existing collaborations with public health professionals serving minority communities with expressed purpose of delivering culturally-proficient and linguistically-appropriate public health services to racial and ethnic minority populations by developing, promoting, and marketing health promotion and professional, training, educational programs and materials.

b. Policy analysis, program assessment and development, formative evaluation, training and technical assistance efforts to improve the health and well-being of the targeted racial and ethnic populations.

c. Participating in CDC-sponsored meetings and events, as appropriate.

d. Developing partnerships with organizations to implement new ways to support providers and professional with effective methods for serving racial and ethnic minority communities.

e. Working with academic institutions and public and private public health partners on health promotion, education, social marketing and program service delivery endeavors to reduce health disparities in racial and ethnic minority communities.

f. Applicants working with public health partners must develop, coordinate and conduct technical assistance and/or training activities to increase cultural competency of public health professionals and partners.

g. Incorporating population-based approaches to disease prevention and health promotion programs that focus on strengthening organizational capacity and information technology assets for community-based organizations.

Identify strategies and activities for increasing the applicant's involvement in health education and promotion activities over the next four years.

Explain how planned activities relate to the purpose of this program announcement. The plan should identify and establish a timeline for the completion of each component or major activity. The plan should identify how previous experience conducting and implementing public health programs in racial and ethnic minority communities will inform the proposed program activities and efforts.

4. Goals and Objectives

Describe goals and objectives in narrative form and provide a timetable, with specific activities that are related to each objective during the projected 12-month budget period. Provide objectives that are specific, measurable, feasible, and time-phased to be accomplished during the projected 12-month budget period. Indicate when each activity will occur, as well as when preparations for activities will occur. Also indicate who will be responsible for each activity and identify staff assigned to each activity. [Note: Objectives should relate directly to the project goals and recipient activities.]

5. Project Management and Staffing Plan

Provide appropriate staff, based on experience and capability, to successfully implement national public health programs in the targeted populations.

6. Evaluation Plan

Provide a summary of how project activities will be evaluated (i.e., a plan to determine if the methods used to deliver these activities are effective and if the objectives are being achieved). Develop a well-designed evaluation plan that is realistic and time-phased to determine progress toward achievement of established goals and objectives.

The evaluation plan should address measures considered critical to determine the success of the program outlined by the applicant, and results should be used to monitor and achieve program activities.

7. Budget and Accompanying Justification

For each of the categorical project areas, provide a separate detailed line-item budget and narrative justification describing operating expenses consistent with the proposed objectives and planned activities. For comprehensive strategies and activities, identify the funds that will be requested from each funding source in the detailed line-item budget and narrative justification. Provide a precise description for each budget item and itemize calculations when appropriate. Applicants should include budget items for travel trips to two CDC-sponsored meetings. The budget and accompanying justification will not be counted in the stated page limit.

Additional information may be included in the application appendices. The appendices will not be counted toward the narrative page limit. This additional information includes:

• Curricula Vitae

• Job Descriptions

• Organizational Charts

• Any other supporting documentation

The agency or organization is required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/grantmain.htm. If the application form does not have a DUNS number field, please write the DUNS number at the top of the first page of the application, and/or include the DUNS number in the application cover letter.

Additional requirements that may require submittal of additional documentation with the application are listed in section “VI.2. Administrative and National Policy Requirements.”

IV.3. Submission Dates and Times

Application Deadline Date: August 19, 2005.

Explanation of Deadlines: Applications must be received in the CDC Procurement and Grants Office by 4 p.m. eastern time on the deadline date.

Applications may be submitted electronically at http://www.grants.gov. Applications completed on-line through Grants.gov are considered formally submitted when the applicant organization's Authorizing Official electronically submits the application to http://www.grants.gov. Electronic applications will be considered as having met the deadline if the application has been submitted electronically by the applicant organization's Authorizing Official to Grants.gov on or before the deadline date and time.

If submittal of the application is done electronically through Grants.gov (http://www.grants.gov), the application will be electronically time/date stamped, which will serve as receipt of submission. Applicants will receive an e-mail notice of receipt when CDC receives the application.

If submittal of the application is by the United States Postal Service or commercial delivery service, the applicant must ensure that the carrier will be able to guarantee delivery by the closing date and time. If CDC receives the submission after the closing date due to:

(1) Carrier error, when the carrier accepted the package with a guarantee for delivery by the closing date and time, or (2) significant weather delays or natural disasters, the applicant will be given the opportunity to submit documentation of the carrier's guarantee. If the documentation verifies a carrier problem, CDC will consider the submission as having been received by the deadline.

If a hard copy application is submitted, CDC will not notify the applicant upon receipt of the submission. If questions arise on the receipt of the application, the applicant should first contact the carrier. If the applicant still has questions, contact the PGO-TIM staff at (770) 488-2700. The applicant should wait two to three days after the submission deadline before calling. This will allow time for submissions to be processed and logged.

This announcement is the definitive guide on application content, submission address, and deadline. It supersedes information provided in the application instructions. If the submission does not meet the deadline above, it will not be eligible for review, and will be discarded. The applicant will be notified the application did not meet the submission requirements.

IV.4. Intergovernmental Review of Applications

Executive Order 12372 does not apply to this program.

IV.5. Funding Restrictions

Restrictions, which must be taken into account while writing your budget, are as follows:

• Funds may not be used for research.

• Funds may be spent for reasonable program purposes, including personnel, travel, supplies, and services.

• Equipment may be purchased, with appropriate justification, including cost comparison of purchase to lease. Although contracts with other organizations are allowable, the recipient of this grant must perform a substantial portion of activities for which funds are requested.

• Cooperative agreement funds may not supplant existing funds from any other public or private source.

• Funds may not be expended for construction, renovation of existing facilities, or relocation of headquarters or affiliates.

• Funds may not be used for clinical services.

• Reimbursement of pre-award costs is not allowed.

If requesting indirect costs in the budget, a copy of the indirect cost rate agreement is required. If the indirect cost rate is a provisional rate, the agreement should be less than 12 months of age.

Guidance for completing your budget can be found on the CDC Web site, at the following Internet address: http://www.cdc.gov/od/pgo/funding/budgetguide.htm.

IV.6. Other Submission Requirements

Application Submission Address:

Electronic Submission: CDC strongly encourages applicants to submit applications electronically at http://www.Grants.gov. The application package can be downloaded from http://www.Grants.gov. Applicants are able to complete it off-line, and then upload and submit the application via the Grants.gov Web site. E-mail submissions will not be accepted. If the applicant has technical difficulties in Grants.gov, costumer service can be reached by E-mail at http://www.grants.gov/CustomerSupport or by phone at 1-800-518-4726 (1-800-518-GRANTS). The Customer Support Center is open from 7 a.m. to 9 p.m. eastern time, Monday through Friday.

CDC recommends that submittal of the application to Grants.gov should be early to resolve any unanticipated difficulties prior to the deadline. Applicants may also submit a back-up paper submission of the application. Any such paper submission must be received in accordance with the requirements for timely submission detailed in Section IV.3. of the grant announcement. The paper submission must be clearly marked: “BACK-UP FOR ELECTRONIC SUBMISSION.” The paper submission must conform to all requirements for non-electronic submissions. If both electronic and back-up paper submissions are received by the deadline, the electronic version will be considered the official submission.

It is strongly recommended that the applicant submit the grant application using Microsoft Office products (e.g., Microsoft Word, Microsoft Excel, etc.). If the applicant does not have access to Microsoft Office products, a PDF file may be submitted. Directions for creating PDF files can be found on the Grants.gov Web site. Use of file formats other than Microsoft Office or PDF may result in the file being unreadable by staff.

OR

Paper Submission: Applicants should submit the original and two hard copies of the application by mail or express delivery service to: Technical Information Management—RFA 05055, CDC Procurement and Grants Office, 2920 Brandywine Road, Atlanta, GA 30341.

V. Application Review Information

V.1. Criteria

Applicants are required to provide measures of effectiveness that will demonstrate the accomplishment of the identified objectives of the cooperative agreement. Measures of effectiveness must relate to the performance goals stated in the “Purpose” section of this announcement. Measures must be objective and quantitative, and must measure the intended outcome. These measures of effectiveness must be submitted with the application and will be an element of evaluation.

The application will be evaluated against the following criteria: Evaluation Criteria (100 points total)

1. Capacity (30 Points)

The extent to which the applicant describes its capacity and ability to carry out activities related to disease prevention and health promotion through racial and ethnic minority coalitions, and other public health partners.

2. Method (20 Points)

The extent to which the applicant provides a plan that describes the methodologies for conducting recipient activities outlined in the activities section. The extent to which the applicant identifies strategies and activities for increasing their involvement in public health programs in the targeted populations over the next four years.

3. Goals and Objectives (20 Points)

a. The extent to which the applicant lists and describes goals specifically related to program requirements and indicates expected program outcomes for the projected 12-month budget period and four-year project period.

b. The extent to which the applicant provides objectives that are specific, measurable, feasible, and time-phased to be accomplished.

4. Background and Need (10 Points)

The extent to which the applicant describes the targeted population and their organization's role in conducting these activities.

5. Project Management and Staffing Plan (10 Points)

a. The extent to which the applicant describes the proposed staffing for the project, and submits job descriptions to exemplify the level of organizational responsibility for professional staff that will be assigned to the project.

b. The extent to which the applicant describes the organization's structure and function and how that structure will support the program goals and objectives outlined in the program and the applicant's proposed activities.

6. Evaluation Plan (10 Points)

a. The extent to which the applicant describes how each of the activities will be monitored and evaluated toward achieving proposed program objectives.

b. The extent to which the applicant's evaluation plan addresses measures considered critical to determining the success of the plan outlined by the applicant, and how the results should be used for improvement of the intended plan.

7. Budget and Accompanying Justification (Reviewed, But Not Scored)

a. The extent to which the applicant provides a detailed line-item budget and narrative justification describing operating expenses consistent with the proposed objectives and planned activities.

b. The extent to which the applicant identifies the funds that will be requested from each funding source in the detailed line-item budget and narrative justification for comprehensive strategies and activities.

c. The extent to which the applicant provides a precise description for each budget item and itemized calculations when appropriate.

d. The extent to which the applicant includes budget items for travel trips to two CDC-sponsored meetings. The budget and accompanying justification will not be counted in the stated page limit.

V.2. Review and Selection Process

Applications will be reviewed for completeness by the Procurement and Grants Office (PGO) staff, and for responsiveness by the Office of Minority Health. Incomplete and non-responsive applications will not advance through the review process. Applicants will be notified that their application did not meet submission requirements.

A special emphasis panel will evaluate complete and responsive applications according to the criteria listed in the “V.1. Criteria” section above. Applications competing for federal funds receive an objective and independent review performed by a committee of experts qualified by training and experience in particular fields or disciplines related to the program being reviewed. In selecting review committee members for the special emphasis panel, other factors in addition to training and experience may be considered to improve the balance of a panel. Each reviewer is screened to avoid conflicts of interest and is responsible for providing an objective, unbiased evaluation based on the review criteria noted above. The panel provides expert advice on the merits of each application to program officials responsible for final selections for awards. Before final award decisions are made, CDC may make pre-decisional site visits to those applicants who rank high on the initial scoring to review the agency's program, business management, and fiscal capabilities. CDC may also check with the health department, the organization's board of directors, and community partners to obtain additional information about the organizational structure and the availability of needed services and support.

In addition, the following factors may affect the funding decision:

• No more than five awards will be made. Consideration will be given to applicants which demonstrate a clear need or demand for capacity development programs; have appropriate staff expertise and other sources of suppport and/or realistic projections; build on existing programs or services; and, involve the target audience in the planning, implementation and design of program activities (e.g., coalition development, focus groups, trainings).

• Applicants that demonstrate a strong community partnership and national access to predominantly American Indian and Alaska Native communities and provide programmatic support that incorporate concepts that are key to the cultural context, identity, adaptability, and perseverance of American Indians and Alaska Natives include a holistic approach to life, a desire to promote the well-being of the group, an enduring spirit, and a respect for all ways of healing.¹

¹ CDC. MMWR. Health Disparities Experienced by American Indians and Alaska Natives. August 1, 2003 / Vol. 52 / No. 30. http://www.cdc.gov/mmwr/PDF/wk/mm5230.pdf.

• Applicants that expound on efforts to track the racial and ethnic composition and changing health care needs of predominately Asian-American populations.²

² Institutes of Medicine. Eliminating Health Disparities: Measurement and Data Needs (2004). National Academies Press.

• Applicants that demonstrate strong community partnerships and national access to predominantly Hispanic and Latino communities in order to address linguistic and cultural barriers to health care and health services.³

³ CDC. MMWR. Health Disparities Experienced by Hispanics—United States. October 15, 2004 53(40); 935-937. http://www.cdc.gov/mmwr/preview/mmwrhtml/mm5340a1.htm.

• Applicants that address the disproportionate ‘third world’ health conditions experienced by predominately Native Hawaiian and other Pacific Islander populations. Additionally, disproportionate conditions also include situations where health promotion affects high rates of childhood malnutrition, chronic diseases such as heart disease and diabetes, and infectious diseases such as hepatitis B, cholera, dengue fever, and Hansen disease (leprosy). Health promotion efforts, health care services and infrastructures are also limited.⁴

⁴ CDC. Chronic Disease Notes and Reports. Health Disparities Among Native Hawaiians and Other Pacific Islanders Garner Little Attention. Volume 15 • Number 2, Spring/Summer 2002.

V.3. Anticipated Announcement Award Date

August 31, 2005.

VI. Award Administration Information

VI.1. Award Notices

Successful applicants will receive a Notice of Award (NoA) from the CDC Procurement and Grants Office. The NoA shall be the only binding, authorizing document between the recipient and CDC. The NoA will be signed by an authorized Grants Management Officer, and mailed to the recipient fiscal officer identified in the application.

Unsuccessful applicants will receive notification of the results of the application review by mail.

VI.2. Administrative and National Policy Requirements

Successful applicants must comply with the administrative requirements outlined in 45 CFR Part 74 and Part 92 as Appropriate. The following additional requirements apply to this project:

AR-4 HIV/AIDS Confidentiality Provisions

AR-8 Public Health System Reporting Requirements

AR-10 Smoke-Free Workplace Requirements

AR-11 Healthy People 2010

AR-12 Lobbying Restrictions

AR-14 Accounting System Requirements

AR-15 Proof of Non-Profit Status

Additional information on these requirements can be found on the CDC Web site at the following Internet address: http://www.cdc.gov/od/pgo/funding/ARs.htm.

For more information on the Code of Federal Regulations, see the National Archives and Records Administration at the following Internet address: http://www.access.gpo.gov/nara/cfr/cfr-table-search.html.

An additional Certifications form from the PHS5161-1 application needs to be included in the Grants.gov electronic submission only. Applicants should refer to http://www.cdc.gov/od/pgo/funding/PHS5161-1-Certificates.pdf. Once the applicant has filled out the form, it should be attached to the Grants.gov submission as Other Attachments Form.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Measures of Effectiveness.

f. Additional Requested Information.

2. Financial status report and annual progress report, no more than 90 days after the end of the budget period.

3. Final financial and performance reports, no more than 90 days after the project period.

These reports must be mailed to the Grants Management Specialist listed in the “Agency Contacts” section of this announcement.

VII. Agency Contacts

We encourage inquiries concerning this announcement.

For general questions, contact: Technical Information Management Section, CDC Procurement and Grants Office, 2920 Brandywine Road, Atlanta, GA 30341, Telephone: 770-488-2700.

For program technical assistance, contact: Sonsiere Cobb-Souza, Project Officer, CDC Office of the Director, Office of Minority Health, 1600 Clifton Rd., MS E-67, Atlanta, GA 30333, Telephone: 404-498-2310; E-mail: SCobbSouza@cdc.gov.

For financial, grants management, and budget assistance, contact: Mattie Jackson, Grants Management Specialist, CDC Procurement and Grants Office, 2920 Brandywine Road, Atlanta, GA 30341, Telephone: 770-488-2696; E-mail: mij3@cdc.gov.

VIII. Other Information

Other CDC funding opportunity announcements can be found on the CDC Web site, Internet address: http://www.cdc.gov.

Information on existing cooperative agreements with the CDC Office of Minority Health may be found at http://www.cdc.gov/omh/. Click on “Cooperative Agreements.”

Dated: July 20, 2005.
William P. Nichols,
Director, Procurement and Grants Office, Centers for Disease Control and Prevention.

[FR Doc. 05-14683 Filed 7-25-05; 8:45 am]

BILLING CODE 4163-18-P